DEPARTMENT OF AGRICULTURE

Agricultural Marketing Service

7 CFR Part 1206

[Document Number AMS-SC-18-0023]

Mango Promotion, Research and Information Order; Referendum on Inclusion of Frozen Mangos

AGENCY: Agricultural Marketing Service.

ACTION: Notification of referendum order.

SUMMARY: This document directs that a referendum be conducted among eligible first handlers and importers of mangos to determine whether they favor the inclusion of frozen mangos as a covered commodity under the Mango Promotion, Research and Information Order (Order).

DATES: This referendum will be conducted from March 25, 2019 through April 12, 2019. The U.S. Department of Agriculture (Department) will provide the option for electronic ballots. Further details will be provided in the ballot instructions. First handlers who received 500,000 or more pounds of fresh mangos from producers and importers who imported 500,000 or more pounds of fresh mangos or 200,000 or more pounds of frozen mangos into the United States, during the representative period from January 1 through December 31, 2017, are eligible to vote. Mail ballots must be postmarked by April 12, 2019. Ballots delivered via express mail or email must show proof of delivery by no later than 11:59 p.m. Eastern Time (ET) on April 12, 2019.

ADDRESSES: Copies of the Order may be obtained from: Referendum Agent, Promotion and Economics Division (PED), Specialty Crops Program (SCP), AMS, USDA, Stop 0244, Room 1406-S, 1400 Independence Avenue SW, Washington, DC 20250-0244; telephone: (202) 720-9915, (202) 720-5976 (direct line); facsimile: (202) 205-2800.

FOR FURTHER INFORMATION CONTACT: Jeanette Palmer, Marketing Specialist, PED, SCP, AMS, USDA, Stop 0244, Room 1406-S, 1400 Independence Avenue SW, Washington, DC 20250-0244; telephone: (202) 720-9915, (202) 720-5976 (direct line); facsimile: (202) 205-2800; or electronic mail: Jeanette.Palmer@ams.usda.gov.

SUPPLEMENTARY INFORMATION: Pursuant to the Commodity Promotion, Research and Information Act of 1996 (7 U.S.C. 7411-7425) (1996 Act), it is hereby directed that a referendum be conducted to ascertain whether the inclusion of frozen mangos in the Order is favored by eligible first handlers of fresh mangos and importers of fresh and frozen mangos covered under the program. Recently, the Order was modified to add frozen mangos as a covered commodity, and importers of frozen mangos will be assessed one cent ($0.01) per pound on frozen mangos. In addition, the National Mango Board membership has been expanded from 18 to 21 with the addition of two seats for importers of frozen mangos and one seat for a foreign processor. As these changes to the Order involve new covered entities, the Department determines that it is appropriate to conduct a referendum on the provisions regarding frozen mangos to ensure that those covered under the program agree with continuation of the Order as modified.

The representative period for establishing voter eligibility for the referendum shall be the period from January 1 through December 31, 2017. First handlers who received 500,000 or more pounds of fresh mangos from producers and importers who imported 500,000 or more pounds of fresh mangos or 200,000 or more pounds of frozen mangos into the United States during the representative period are eligible to vote. Persons who received an exemption from assessments for the entire representative period are ineligible to vote. The referendum shall be conducted by mail ballot from March 25, through April 12, 2019. The Department will provide the option for electronic ballots. Further details will be provided in the ballot instructions.

Section 518(d) of the Act authorizes referenda at any time to determine whether the continuation, suspension, or termination of the order or a provision of the order is favored by persons eligible to vote. The Department would retain the provisions of the Order that added frozen mangos to the program if approved by a majority of the first handlers and importers voting in the referendum. If not approved, the Department will conduct rulemaking to remove the provisions from the Order.

In accordance with the Paperwork Reduction Act of 1995 (44 U.S.C. chapter 35), the referendum ballot has been approved by the Office of Management and Budget (OMB) and assigned OMB No. 0581-0093. It has been estimated that there are approximately five first handlers and 275 importers of fresh mangos and 190 importers of frozen mangos who will be eligible to vote in the referendum. It will take an average of 15 minutes for each voter to read the voting instructions and complete the referendum ballot.

Referendum Order

Jeanette Palmer, Marketing Specialist and Heather Pichelman, Director, Promotion and Economics Division, SCP, AMS, USDA, Stop 0244, Room 1406-S, 1400 Independence Avenue SW, Washington, DC 20250-0244, are designated as the referendum agents to conduct this referendum. The referendum procedures at 7 CFR 1206.100 through 1206.108, which were issued pursuant to the Act, shall be used to conduct the referendum.

The referendum agents will distribute the ballots to be cast in the referendum and voting instructions to all known first handlers who received 500,000 or more pounds of fresh mangos from producers and importers who imported 500,000 or more pounds of fresh mangos or 200,000 or more of frozen mangos into the United States during the representative period, prior to the first day of the voting period. Persons who are eligible first handlers or importers during the representative period and are first handlers or importers at the time of the referendum are eligible to vote. Persons who received an exemption from assessments during the entire representative period are ineligible to vote. Any eligible first handler or importer who does not receive a ballot should contact a referendum agent no later than one week before the end of the voting period. Mail ballots must be postmarked by April 12, 2019. Ballots delivered via express mail or email must show proof of delivery by no later than 11:59 p.m. Eastern Time (ET) on April 12, 2019.

List of Subjects in 7 CFR Part 1206

Administrative practice and procedure, Advertising, Consumer information, Marketing agreements, Mango promotion, Reporting and recordkeeping requirements.

Authority: 7 U.S.C. 7411-7425 and 7 U.S.C. 7401.

Dated: February 14, 2019.
Bruce Summers,
Administrator.

[FR Doc. 2019-02851 Filed 2-20-19; 8:45 am]

BILLING CODE 3410-02-P